DEPARTMENT OF HEALTH AND HUMAN SERVICES

National Institutes of Health

Center for Scientific Review; Notice of Closed Meetings

Pursuant to section 10(d) of the Federal Advisory Committee Act, as amended, notice is hereby given of the following meetings.

The meetings will be closed to the public in accordance with the provisions set forth in sections 552b(c)(4) and 552b(c)(6), Title 5 U.S.C., as amended. The grant applications and the discussions could disclose confidential trade secrets or commercial property such as patentable material, and personal information concerning individuals associated with the grant applications, the disclosure of which would constitute a clearly unwarranted invasion of personal privacy.

Name of Committee: Center for Scientific Review Special Emphasis Panel;RFA Panel: African Health Professional Education Partnership Initiative.

Date: May 22, 2018.

Time: 10:00 a.m. to 5:00 p.m.

Agenda: To review and evaluate grant applications.

Place: National Institutes of Health,6701 Rockledge Drive,Bethesda, MD 20892,(Virtual Meeting).

Contact Person: Shalanda A Bynum, Ph.D., MPH,Scientific Review Officer,Center for Scientific Review,National Institutes of Health,6701 Rockledge Drive, Room 3206,Bethesda, MD 20892,301-755-4355,bynumsa@csr.nih.gov.

Name of Committee: Center for Scientific Review Special Emphasis Panel;RFA 17-245: Mammalian Models for Translational Research.

Date: May 22, 2018.

Time: 11:00 a.m. to 5:00 p.m.

Agenda: To review and evaluate grant applications.

Place: National Institutes of Health,6701 Rockledge Drive,Bethesda, MD 20892(Virtual Meeting).

Contact Person: Careen K Tang-Toth, Ph.D.,Scientific Review Officer,Center for Scientific Review,National Institutes of Health,6701 Rockledge Drive, Room 6214, MSC 7804,Bethesda, MD 20892,(301) 435-3504,tothct@csr.nih.gov.

Name of Committee: Center for Scientific Review Special Emphasis Panel;RFA-CA-17-038: Accelerating Colorectal Cancer Screening and Follow-up: The Moonshot Initiative.

Date: May 30, 2018.

Time: 8:00 a.m. to 6:30 p.m.

Agenda: To review and evaluate grant applications.

Place: Embassy Suite by Hilton Washington DC,Chevy Chase Pavilion,4300 Military Road NW,Washington, DC 20015.

Contact Person: Shalanda A Bynum, Ph.D., MPH,Scientific Review Officer,Center for Scientific Review,National Institutes of Health,6701 Rockledge Drive, Room 3206,Bethesda, MD 20892,301-755-4355,bynumsa@csr.nih.gov.

Name of Committee: Population Sciences and Epidemiology Integrated Review Group;Behavioral Genetics and Epidemiology Study Section.

Date: May 30, 2018.

Time: 8:30 a.m. to 5:00 p.m.

Agenda: To review and evaluate grant applications.

Place: InterContinental Chicago Hotel,505 North Michigan Avenue,Chicago, IL 60611.

Contact Person: Suzanne Ryan, Ph.D.,Scientific Review Officer,Center for Scientific Review,National Institutes of Health,6701 Rockledge Drive, Room 3139, MSC 7770,Bethesda, MD 20892,(301) 435-1712,ryansj@csr.nih.gov.

Name of Committee: Center for Scientific Review Special Emphasis Panel;Behavioral Genetics and Epidemiology: Collaborative Applications.

Date: May 30, 2018.

Time: 8:30 a.m. to 5:00 p.m.

Agenda: To review and evaluate grant applications.

Place: InterContinental Chicago Hotel,505 North Michigan Avenue,Chicago, IL 60611.

Contact Person: Suzanne Ryan, Ph.D.,Scientific Review Officer,Center for Scientific Review,National Institutes of Health,6701 Rockledge Drive, Room 3139, MSC 7770,Bethesda, MD 20892,(301) 435-1712,ryansj@csr.nih.gov.

Name of Committee: Surgical Sciences, Biomedical Imaging and Bioengineering Integrated Review Group;Biomedical Imaging Technology B Study Section.

Date: May 31-June 1, 2018.

Time: 8:00 a.m. to 6:00 p.m.

Agenda: To review and evaluate grant applications.

Place: Hilton Washington/Rockville,1750 Rockville Pike,Rockville, MD 20852.

Contact Person: Mehrdad Mohseni, MD,Scientific Review Officer,Center for Scientific Review,National Institutes of Health,6701 Rockledge Drive, Room 5211, MSC 7854,Bethesda, MD 20892,301-435-0484,mohsenim@csr.nih.gov.

Name of Committee: Surgical Sciences, Biomedical Imaging and Bioengineering Integrated Review Group;Medical Imaging Study Section.

Date: May 31-June 1, 2018.

Time: 8:00 a.m. to 6:00 p.m.

Agenda: To review and evaluate grant applications.

Place: Hyatt Regency Bethesda,One Bethesda Metro Center,7400 Wisconsin Avenue,Bethesda, MD 20814.

Contact Person: Xiang-Ning Li, MD, Ph.D.,Scientific Review Officer,Center for Scientific Review,National Institutes of Health,6701 Rockledge Drive, Room 5112, MSC 7854,Bethesda, MD 20892,301-435-1744,lixiang@csr.nih.gov.

Name of Committee: Vascular and Hematology Integrated Review Group; Molecular and Cellular Hematology Study Section.

Date: June 4-5, 2018.

Time: 8:00 a.m. to 5:00 p.m.

Agenda: To review and evaluate grant applications.

Place: Crowne Plaza Houston River Oaks, 2712 Southwest Freeway, Houston, TX 77098.

Contact Person: Luis Espinoza, Ph.D., Scientific Review Officer, Center for Scientific Review, National Institutes of Health, 6701 Rockledge Drive, Room 6183, MSC 7804, Bethesda, MD 20892, 301-495-1213, espinozala@mail.nih.gov.

Name of Committee: Center for Scientific Review Special Emphasis Panel; PAR-18-681: Fundamental Mechanism of Affective and Decisional Process in Cancer Control.

Date: June 5, 2018.

Time: 10:30 a.m. to 2:00 p.m.

Agenda: To review and evaluate grant applications.

Place: Royal Sonesta Harbor Court Baltimore, 550 Light Street, Baltimore, MD 21202.

Contact Person: Marc Boulay, Ph.D., Scientific Review Officer, Center for Scientific Review, National Institutes of Health, 6701 Rockledge Drive, Room 3110, MSC 7808, Bethesda, MD 20892, (301) 300-6541, boulaymg@csr.nih.gov.

Name of Committee: Center for Scientific Review Special Emphasis Panel; PAR17-029: Dynamic Interactions between Systemic or Non-Neuronal Systems and the Brain in Aging and in Alzheimer's Disease.

Date: June 5, 2018.

Time: 11:00 a.m. to 4:00 p.m.

Agenda: To review and evaluate grant applications.

Place: National Institutes of Health, 6701 Rockledge Drive, Bethesda, MD 20892 (Telephone Conference Call).

Contact Person: Inese Z Beitins, MD, Scientific Review Officer, Center for Scientific Review, National Institutes of Health, 6701 Rockledge Drive, Room 6152, MSC 7892, Bethesda, MD 20892, 301-435-1034, beitinsi@csr.nih.gov.

Name of Committee: Surgical Sciences, Biomedical Imaging and Bioengineering Integrated Review Group; Surgery, Anesthesiology and Trauma Study Section.

Date: June 6-7, 2018.

Time: 7:30 a.m. to 5:00 p.m.

Agenda: To review and evaluate grant applications.

Place: Hyatt Regency Bethesda, One Bethesda Metro Center, 7400 Wisconsin Avenue, Bethesda, MD 20814.

Contact Person: Weihua Luo, MD, Ph.D., Scientific Review Officer, Center for Scientific Review, National Institutes of Health, 6701 Rockledge Drive, Room 5114, MSC 7854, Bethesda, MD 20892, (301) 435-1170, luow@csr.nih.gov.

Name of Committee: Digestive, Kidney and Urological Systems Integrated Review Group; Xenobiotic and Nutrient Disposition and Action Study Section.

Date: June 6, 2018.

Time: 8:00 a.m. to 8:00 p.m.

Agenda: To review and evaluate grant applications.

Place: Bethesda North Marriott Hotel & Conference Center, 5701 Marinelli Road, Bethesda, MD 20852.

Contact Person: Martha Garcia, Ph.D., Scientific Reviewer Officer, Center for Scientific Review, National Institutes of Health, 6701 Rockledge Drive, Room 2186, Bethesda, MD 20892, 301-435-1243, garciamc@nih.gov.

Name of Committee: Bioengineering Sciences & Technologies Integrated Review Group; Modeling and Analysis of Biological Systems Study Section.

Date: June 6, 2018.

Time: 8:00 a.m. to 7:00 p.m.

Agenda: To review and evaluate grant applications.

Place: Hyatt Regency Bethesda, One Bethesda Metro Center, 7400 Wisconsin Avenue, Bethesda, MD 20814.

Contact Person: Craig Giroux, Ph.D., Scientific Review Officer, BST IRG, Center for Scientific Review, National Institutes of Health, 6701 Rockledge Drive, Room 5150, Bethesda, MD 20892, 301-435-2204, girouxcn@csr.nih.gov.

Name of Committee: Infectious Diseases and Microbiology Integrated Review Group; Vector Biology Study Section.

Date: June 6, 2018.

Time: 8:00 a.m. to 6:00 p.m.

Agenda: To review and evaluate grant applications.

Place: Residence Inn Bethesda, 7335 Wisconsin Avenue, Bethesda, MD 20814.

Contact Person: Liangbiao Zheng, Ph.D, Scientific Review Officer, Center for Scientific Review, National Institutes of Health, 6701 Rockledge Drive, Room 3214, MSC 7808, Bethesda, MD 20892, 301-402-5671, zhengli@csr.nih.gov.

Name of Committee: Center for Scientific Review Special Emphasis Panel; National Swine Resource and Research Center Review.

Date: June 6, 2018.

Time: 1:00 p.m. to 3:00 p.m.

Agenda: To review and evaluate grant applications.

Place: National Institutes of Health, 6701 Rockledge Drive, Bethesda, MD 20892 (Telephone Conference Call).

Contact Person: Katherine M Malinda, Ph.D., Scientific Review Officer, Center for Scientific Review, National Institutes of Health, 6701 Rockledge Drive, Room 4140, MSC 7814, Bethesda, MD 20892, 301-435-0912, Katherine_Malinda@csr.nih.gov.

Name of Committee: Center for Scientific Review Special Emphasis Panel; FOA Title: Development of Appropriate Pediatric Formulations and Pediatric Drug.

Date: June 6, 2018.

Time: 2:00 p.m. to 4:00 p.m.

Agenda: To review and evaluate grant applications.

Place: National Institutes of Health, 6701 Rockledge Drive, Bethesda, MD 20892 (Telephone Conference Call).

Contact Person: Paek-Gyu Lee, Ph.D, Scientific Review Officer, Center for Scientific Review, National Institutes of Health, 6701 Rockledge Drive, Room 4201, MSC 7812, Bethesda, MD 20892, (301) 613-2064, leepg@csr.nih.gov.

(Catalogue of Federal Domestic Assistance Program Nos. 93.306, Comparative Medicine; 93.333, Clinical Research, 93.306, 93.333, 93.337, 93.393-93.396, 93.837-93.844, 93.846-93.878, 93.892, 93.893, National Institutes of Health, HHS)

Dated: May 3, 2018.
Melanie J. Pantoja,
Program Analyst, Office of Federal Advisory Committee Policy.

[FR Doc. 2018-09812 Filed 5-8-18; 8:45 am]

BILLING CODE 4140-01-P